DEPARTMENT OF DEFENSE

Department of the Army

[Docket ID: USA-2025-HQ-0102]

Proposed Collection; Comment Request

AGENCY: Department of the Army, Department of Defense (DoD).

ACTION: 60-Day information collection notice.

SUMMARY: In compliance with the Paperwork Reduction Act of 1995, the Department of the Army announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by October 28, 2025.

ADDRESSES: You may submit comments, identified by docket number and title, by any of the following methods:

Federal eRulemaking Portal: https://www.regulations.gov. Follow the instructions for submitting comments.

Mail: Department of Defense, Office of the Assistant to the Secretary of Defense for Privacy, Civil Liberties, and Transparency, 4800 Mark Center Drive, Mailbox #24, Suite 05F16, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Army & Air Force Exchange Service, Office of the General Counsel, Compliance Division, ATTN: Teresa Schreurs, 3911 South Walton Walker Blvd., Dallas, TX 75236-1598, through email to PrivacyManager@aafes.com, or call the Exchange Compliance Division at 800-967-6067, Option 5.

SUPPLEMENTARY INFORMATION:

Title, Associated Form and OMB Number: Exchange Credit Program; OMB Control Number 0702-0137.

Needs and Uses: The information collection is the basis for determining Exchange patron credit eligibility, enhancing the patron's shopping experience, determining the patron's suitability to cash checks at Exchange facilities, and collecting government debts. Allowing patrons to use credit in their shopping experience supports the efficiency and effectiveness of the Exchange's marketing programs and the mission to support the Army's Family and Morale, Welfare and Recreation Programs. Authorized patrons include individuals who are members of the uniformed services, retired members, authorized veterans, and dependents of members of the Armed Forces, commissioned officers of the Public Health Service, and commissioned officers of the National Oceanic and Atmospheric Administration. Other individuals may meet the requirements of being patrons as mandated by regulation. The Exchange offers “personal credit” accounts to service members for purchases of military clothing and to all authorized patrons a private label Military Star credit card for retail purchases. Patrons deciding to apply for credit may voluntarily complete the application form online, through a local Exchange facility by completing the Exchange paper form CRC 7429395 “Military Star Credit Paper Application”, or by supplying information to an authorized Exchange cashier at the Point of Sale. Account holders requesting to update information on their account may do so electronically by visiting https://www.myecp.com/, or by contacting the Exchange MILITARY STAR department at 1-877-891-7827. Information collected from the patron allows the Exchange to address their credit worthiness, and supply monthly statements and debt communication, to include wage garnishments.

Affected Public: Individuals or households.

Annual Burden Hours: 28,975.

Number of Respondents: 869,231.

Responses per Respondent: 1.

Annual Responses: 869,231.

Average Burden per Response: 2 minutes.

Frequency: On occasion.

Dated: August 27, 2025.
Aaron T. Siegel,
Alternate OSD Federal Register Liaison Officer, Department of Defense.

[FR Doc. 2025-16674 Filed 8-28-25; 8:45 am]

BILLING CODE 3710-08-P